DEPARTMENT OF THE TREASURY

Alcohol and Tobacco Tax and Trade Bureau

27 CFR Part 9

[T.D. TTB-10; Re: ATF Notice No. 958]

RIN 1513-AA40

Temecula Valley Viticultural Area (2001R-280P)

AGENCY: Alcohol and Tobacco Tax and Trade Bureau (TTB), Treasury.

ACTION: Final rule; Treasury decision.

SUMMARY: This Treasury decision renames the “Temecula” viticultural area in southern California as the “Temecula Valley” viticultural area. The size and boundaries of the Temecula viticultural area remain unchanged.

EFFECTIVE DATE: This final rule is effective on June 18, 2004. Approved labels using the former name for the area may continue to be used until June 19, 2006.

FOR FURTHER INFORMATION CONTACT: N. A. Sutton, Specialist, Regulations and Procedures Division (Colorado), Alcohol and Tobacco Tax and Trade Bureau, 6660 Delmonico Drive, No. D422, Colorado Springs, CO 80919; telephone 415-271-1254.

SUPPLEMENTARY INFORMATION:

Effect of Homeland Security Act

Effective January 24, 2003, the Homeland Security Act of 2002 (Public Law 107-296, 116 Stat. 2135 (2002)) divided the Bureau of Alcohol, Tobacco and Firearms (ATF) into two new agencies, the Alcohol and Tobacco Tax and Trade Bureau (TTB) in the Department of the Treasury and the Bureau of Alcohol, Tobacco, Firearms and Explosives in the Department of Justice. The regulation of alcohol beverage labels, including viticultural area designations, remains the responsibility of the Treasury Department and is a function of TTB. References to ATF and TTB in this document reflect the time frame, before or after January 24, 2003, of the viticultural area petition process.

Background on Viticultural Areas

TTB Authority

The Federal Alcohol Administration Act (FAA Act) at 27 U.S.C. 205(e) requires that alcohol beverage labels provide the consumer with adequate information regarding a product's identity while prohibiting the use of misleading information on such labels. The FAA Act also authorizes the Secretary of the Treasury to issue regulations to carry out the Act's provisions. The Department's Alcohol and Tobacco Tax and Trade Bureau (TTB) administers these regulations.

Regulations in 27 CFR Part 4, Labeling and Advertising of Wine, allow the establishment of definitive viticultural areas and the use of their names as appellations of origin on wine labels and in wine advertisements. Title 27 CFR Part 9, American Viticultural Areas, contains the list of approved viticultural areas.

Definition of an American Viticultural Area

Title 27 CFR, section 4.25(e)(1), defines an American viticultural area as a delimited grape-growing region distinguishable by geographic features whose boundaries have been delineated in subpart C of part 9. These designations allow consumers and vintners to attribute a given quality, reputation, or other characteristic of a wine made from grapes grown in an area to its geographic origin. We believe that the establishment of viticultural areas allows wineries to describe more accurately the origin of their wines to consumers and helps consumers identify the wines they may purchase. Establishment of a viticultural area is neither an approval nor endorsement by TTB of the wine produced in that area.

Requirements To Establish a Viticultural Area

Section 4.25(e)(2) outlines the procedure for proposing or amending an American viticultural area. Any interested person may petition TTB to establish a grape-growing region as a viticultural area or modify an existing area. A petition for a new area should include:

• Evidence that the proposed viticultural area is locally and/or nationally known by the name specified in the petition;

• Historical or current evidence that the boundaries of the proposed viticultural area are as specified in the petition;

• Evidence of geographical features, such as climate, soil, elevation, and physical features, that distinguish the proposed area from surrounding areas;

• A description of the proposed area's specific boundaries, based on features found on United States Geological Survey (USGS) or USGS-approved maps; and

• A copy of the appropriate USGS-approved map(s) with the boundaries prominently marked.

A petition requesting the modification of an established viticultural area must include information, evidence, and the appropriate maps to support the requested change(s).

Impact on Current Wine Labels

General

This viticultural area's name change may affect bottlers who use brand names containing the terms “Temecula” and “Temecula Valley.” If you fall in this category, you must ensure that your existing products are eligible to use the new name of the viticultural area, “Temecula Valley,” as an appellation of origin. For a wine to be eligible, at least 85 percent of the grapes in the wine must have been grown within the viticultural area.

If the wine is not eligible for the appellation, you must change the brand name and obtain approval of a new label. Different rules apply if you label a wine in this category with a label approved prior to July 7, 1986. See 27 CFR 4.39(i) for details. Additionally, if you use the viticultural area name on a wine label in a context other than appellation of origin, the general prohibitions against misleading representation in part 4 of the regulations apply.

Use of the Name “Temecula” as an Appellation of Origin

From November 23, 1984, until June 18, 2004, the effective date of this final rule, the viticultural area's name was “Temecula.” Since this is the first time we have changed the name of a viticultural area, we are allowing a two-year transition period during which approved wine labels bearing this viticultural area's former “Temecula” name may be used.

When this final rule takes effect, we will approve wine labels that show “Temecula Valley,” not “Temecula,” for the name of this appellation of origin. We have considered the following elements before approving this name change:

• The viticultural area has been known interchangeably by the “Temecula” and “Temecula Valley” names prior to, and since, the 1984 original approval of the viticultural area;

• Commenters confirm the area has been known by either name in the past, but emphasize that the newly approved “Temecula Valley” name is accurate and appropriate for the viticultural area; and

• The “Temecula Valley” name is distinctive and is incorporated into numerous business and area names found within the established boundaries.

Two years after the effective date of this rule, approved labels using the original name for this viticultural area, “Temecula,” as an appellation of origin will be revoked by operation of this regulation. We have added a note to this effect as paragraph (d) of the Temecula Valley regulation at 27 CFR 9.50.

If we receive other petitions to change the names of existing viticultural areas, we will request comments on appropriate transition rules and make a decision based on the facts and circumstances of each case.

Rulemaking Proceedings

Temecula Viticultural Area

ATF established the Temecula viticultural area (27 CFR 9.50) in Treasury Decision ATF-188, published in the Federal Register on October 23, 1984 (49 FR 42563). Located in southern California, the 33,000-acre Temecula viticultural area is in southwestern Riverside County in the Temecula Basin. The viticultural area covers the southern portion of the former Vail Ranch, and its outer boundaries generally follow those of the historical Santa Rosa, Temecula, Little Temecula, and Pauba land grants.

The original Temecula petitioners desired to use a true, historical name for the viticultural area and not the more recent commercial name of “Rancho California,” which some growers in the area favored at first. Treasury Decision ATF-188 noted that the name “Temecula” is derived from the Luiseno Indian word “Temeku,” which means “a place where the sun breaks through the white mist.” The original Temecula petition stated that this description applied to the entire viticultural area, which is in a valley characterized by bright sun and misty marine air that flows inland from the Pacific Ocean. The 1984 decision noted that it is this marine air, which enters the Temecula Valley through gaps in the Santa Ana Mountains, that allows grape growing in this area.

Temecula Valley Petition

In August 2001, the Temecula Valley Winegrowers Association submitted a petition to ATF requesting that the “Temecula” viticultural area's name be changed to “Temecula Valley.” The petition stated that this name change would provide a more accurate description of the Temecula area's geography and greater clarity as to the area's location for wine consumers and the public. The petition did not request any change to the established Temecula viticultural area's boundaries.

The 2001 petition noted that when the Temecula viticultural area was originally established twenty years ago, the area was largely rural and agricultural. It added that the then small, unincorporated village of Temecula is now an incorporated city, larger in size, with a growing population. The city of Temecula's growth, the petition stated, accentuates the differences between the city and the surrounding agricultural region known as the Temecula Valley. The 2001 petition stated that when ATF approved the viticultural area's establishment in 1984, area residents and businesses used the terms “Temecula” and “Temecula Valley” interchangeably. The name change petition noted that the original Temecula Treasury Decision (ATF-188) cited Tom Hudson's 1981 book “A Thousand Years in the Temecula Valley” (Temecula Valley Chamber of Commerce) with its many uses of the term “Temecula Valley.” The 1984 decision additionally noted the planned establishment of the Temecula Valley High School within the viticultural area's boundaries.

The Temecula Valley Winegrowers Association's 2001 petition also noted that local Temecula telephone directory lists numerous businesses and agencies using the name “Temecula Valley” in conjunction with their operating name.

Their petition also related that the organization is a merger of the Temecula Valley Vintners Association and the Temecula Winegrape Growers Association. The new Association stated in the petition, “To continue to mandate the term ‘Temecula’ is to honor a loose and ill-defined use of the term.” The petition cited the use of “Napa” and “Napa Valley” as an example of how the differences between a city (Napa) and the surrounding agricultural area (Napa Valley) are recognized in a viticultural area name.

Notice of Proposed Rulemaking

ATF published a notice of proposed rulemaking regarding the name change from “Temecula” to “Temecula Valley” in the October 21, 2002, Federal Register as Notice No. 958 (67 FR 64573). In that notice, ATF requested comments by December 20, 2002, from all interested persons concerning the renaming of the Temecula viticultural area as the Temecula Valley viticultural area. ATF received three comments, one with the petition and two in response to Notice No. 958, all in favor of the Temecula Valley viticultural area name change.

Mr. Gary McMillan, one of the original Temecula viticultural area petitioners, sent his supporting comment in with the 2001 name change petition. He recalled in his comment that the names Temecula and Temecula Valley were used interchangeably at the time of the original petition. His comment provided some supporting historical information on the names' interchangeability. The other two commenters, Mr. Peter Poole of Mt. Palomar Winery and Mr. Joe Travis Hart of Hart Winery, also supported the viticultural area's name.

TTB Decision

TTB finds that the petitioners provided sufficient evidence supporting their request to rename the “Temecula” viticultural area as “Temecula Valley.” Temecula is no longer the small, agricultural village of 20 years ago. It is now a much larger city of 75,000 people covering 18,050 acres (see demographic information at http://www.cityoftemecula.org). We agree that “Temecula Valley” is now the more accurate name for this viticultural area. This change allows growers to better describe the origin of their grapes and helps consumers differentiate between the city of Temecula and the surrounding agricultural area in the Temecula Valley.

Regulatory Analyses and Notices

Paperwork Reduction Act

The provisions of the Paperwork Reduction Act of 1995, 44 U.S.C. chapter 35, and its implementing regulations, 5 CFR part 1320, do not apply to this rule because we impose no requirement to collect information.

Regulatory Flexibility Act

We certify that this regulation will not have a significant economic impact on a substantial number of small entities. This regulation imposes no new reporting, record keeping, or other compliance burdens on a substantial number of small entities. Any benefit derived from the use and reputation of a viticultural area name is the result of a proprietor's own efforts and consumer acceptance of wines from that area. Accordingly, a regulatory flexibility analysis is not required.

Executive Order 12866

This rule is not a significant regulatory action as defined by Executive Order 12866. Therefore, no regulatory analysis is required.

Drafting Information

The principal author of this document is N. A. Sutton (Colorado), Regulations Division and Procedures Division, Alcohol and Tobacco Tax and Trade Bureau.

List of Subjects in 27 CFR Part 9

Wine.

Authority and Issuance

For the reasons discussed in the preamble, title 27, Code of Federal Regulations, Part 9, American Viticultural Areas, is amended as follows:

PART 9—AMERICAN VITICULTURAL AREAS

1. The authority citation for part 9 continues to read as follows:

Authority: 27 U.S.C. 205.

Subpart C—Approved American Viticultural Areas

2. Section 9.50 is amended by revising the section heading, paragraph (a), and the introductory text of paragraphs (b) and (c), and by adding paragraph (d) to read as follows:

§ 9.50 Temecula Valley.

(a) Name. The name of the viticultural area described in this section is “Temecula Valley.”

(b) Approved map.The approved maps for determining the boundary of the Temecula Valley viticultural area are seven USGS quadrangle maps in the 7.5 minute series, as follows:

* * * * *

(c) Boundary. The Temecula Valley viticultural area is located in Riverside County, California. The boundary is as follows:

* * * * *

(d) From November 23, 1984, until June 17, 2004, the name of this viticultural area was “Temecula”. Effective June 18, 2004, this viticulture area is named “Temecula Valley”. Existing certificates of label approval showing “Temecula” as the appellation of origin will be revoked by operation of this regulation on June 19, 2006.

Signed: November 26, 2003.
Arthur J. Libertucci,
Administrator.
Approved: March 19, 2004.
Timothy E. Skud,
Deputy Assistant Secretary (Tax, Trade, and Tariff Policy).

[FR Doc. 04-8827 Filed 4-16-04; 8:45 am]

BILLING CODE 4810-31-P